DEPARTMENT OF HOMELAND SECURITY

Coast Guard

[COTP Morgan City, LA 07-002]

South Louisiana Area Maritime Security Committee

AGENCY: Coast Guard, DHS.

ACTION: Solicitation for membership.

SUMMARY: Under the Maritime Transportation Security Act of 2002, the Secretary of Homeland Security has established an Area Maritime Security (AMS) Committee under the direction of the Morgan City Captain of the Port (COTP)/Federal Maritime Security Coordinator (FMSC). The Morgan City COTP/FMSC hereby requests that qualified individuals interested in serving on the South Louisiana AMS Committee submit an application for membership.

DATES: Requests for membership should reach the U.S. Coast Guard Captain of the Port, Marine Safety Unit Morgan City on or before July 1, 2007.

ADDRESSES: Requests for membership should be submitted to Captain of the Port, USCG Marine Safety Unit Morgan City, 800 David Drive, Morgan City, Louisiana 70380.

FOR FURTHER INFORMATION CONTACT: For questions concerning either the procedure for submitting an application or the South Louisiana Area Maritime Security Committee generally, contact Mr. Joe Pasqua at 985-380-5313.

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees for any port area of the United States. (See 33 U.S.C. 1226; 46 U.S.C. 70112; 33 CFR 103.205; Department of Homeland Security Delegation No. 0170.1.) The MTSA includes a provision exempting these AMS Committees from the Federal Advisory Committee Act (FACA), Public Law 92-436, 86 Stat. 470 (5 U.S.C. App.2).

The AMS Committee assists the Captain of the Port (COTP)/Federal Maritime Security Coordinator (FMSC)in the review and update of the South Louisiana Area Maritime Security Plan for the Marine Safety Unit Morgan City area of responsibility. Such matters may include, but are not limited to:

(1) Identifying critical port infrastructure and operations;

(2) Identifying risks (threats, vulnerabilities, and consequences);

(3) Determining mitigation strategies and implementation methods;

(4) Developing and describing the process to continually evaluate overall port security by considering consequences and vulnerabilities, how they may change over time, and what additional mitigation strategies can be applied; and

(5) Providing advice to, and assisting the COTP/FMSC in reviewing and updating the South Louisiana Area Maritime Security Plan.

South Louisiana AMS Committee Membership

Applicants should have at least five years of experience related to maritime or port security operations. The South Louisiana AMS Committee currently has twenty-four members, which includes maritime industry members in addition to government agency members. We are seeking new members interested in improving maritime security along the Louisiana coast, west of the Mississippi River. Applicants may be required to pass an appropriate security background check prior to appointment to the committee.

Members' term of office will be for five years; however, a member is eligible to serve an additional term of office. Members will not receive any salary or other compensation for their service on the South Louisiana AMS Committee. In support of the policy of the Coast Guard on gender and ethnic diversity, we encourage qualified women and members of minority groups to apply.

Request for Applications

Applicants seeking AMS Committee membership are not required to submit formal applications to the local COTP/FMSC. However, because we have an obligation to ensure that a specific number of members have the prerequisite maritime security experience, we encourage the submission of resumes highlighting experience in the maritime and security industries. Applications should include the applicant's name, employer, relationship to maritime industry and port interests, and general maritime security-related experience.

Dated: February 12, 2007.
T. D. Gilbreath,
Captain, U.S. Coast Guard, Captain of the Port/Federal Maritime Security Coordinator.

[FR Doc. E7-6538 Filed 4-6-07; 8:45 am]

BILLING CODE 4910-15-P